DEPARTMENT OF COMMERCE

National Oceanic and Atmospheric Administration

[RTID 0648-XA375]

Western Pacific Fishery Management Council; Public Meeting

AGENCY: National Marine Fisheries Service (NMFS), National Oceanic and Atmospheric Administration (NOAA), Commerce.

ACTION: Notice of public meetings.

SUMMARY: The Western Pacific Fishery Management Council (Council) will hold a virtual Fishers Forum and Public Meeting to review the Hawaii Small-boat Fishery. The Council will solicit comments on removing existing fishery closures and options for amending the Hawaii Archipelago Fishery Ecosystem Plan (FEP) and Pacific Pelagics FEP to require mandatory federal fishing permits and associated reporting requirements for the small-boat fishery in the Exclusive Economic Zone around Hawaii.

DATES: The public meeting will be held on Thursday, August 27, 2020, from 6 p.m. to 8 p.m. For specific times and agendas, see SUPPLEMENTARY INFORMATION.

ADDRESSES: Each of the meetings will be held by web conference. Audio and visual portions for all of the web conferences can be accessed at: https://wprfmc.webex.com/wprfmc/onstage/g.php?MTID=e16a71e34d5b1ce0d42be73287949fbc2. Web conference access information will also be posted on the Council's website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: Public comment periods will be provided in the agenda. Information on how to provide public comment will be posted on the Council's website at www.wpcouncil.org. The order in which agenda items are addressed may change. The meetings will run as late as necessary to complete scheduled business.

Schedule and Agenda for the Virtual Fishers Forum and Hawaii Small-Boat Fishery Public Meeting

Thursday, August 27, 2020, 6 p.m.-8 p.m.

1. Welcome and Introductions

2. Presentations on Fishers as Scientists

A. Fish Tagging in the Hawaiian Islands

B. Biosampling of Coral Reef Fish in Hawaii

3. Review of the Hawaii Small-boat Fishery

A. Revisiting the Federal Fishery Closures Around Hawaii

B. Options for Mandatory Permitting and Reporting of the Hawaii Small-boat Fisheries

4. Public Comment and Discussion

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: August 7, 2020.
Tracey L. Thompson,
Acting Deputy Director, Office of Sustainable Fisheries, National Marine Fisheries Service.

[FR Doc. 2020-17644 Filed 8-11-20; 8:45 am]

BILLING CODE 3510-22-P